FEDERAL COMMUNICATIONS COMMISSION

47 CFR Part 73

[DA 06-267; MB Docket No. 05-140, RM-11225]

Radio Broadcasting Services; Arlington and Memphis, TN, and Saint Florian, AL

AGENCY: Federal Communications Commission.

ACTION: Final rule.

SUMMARY: The Audio Division, at the request of Clear Channel Broadcasting Licenses, Inc., licensee of Station WEGR(FM), Channel 274C1, Memphis, Tennessee, deletes Channel 274C1 at Memphis, Tennessee, from the FM Table of Allotments, allots Channel 274C1 at Arlington, Tennessee, as the community's first local FM service, and modifies the license of Station WEGR(FM) to specify operation on Channel 274C1 at Arlington. Channel 274C1 can be allotted to Arlington, Tennessee, in compliance with the Commission's minimum distance separation requirements with a site restriction of 10.8 km (6.7 miles) west of Arlington. The coordinates for Channel 274C1 at Arlington, Tennessee, are 89-46-38 North Latitude and 89-46-38 West Longitude. In order to accommodate that allotment, the Audio Division also modifies the reference coordinates for vacant Channel 274A at Saint Florian, Alabama. The reference coordinates for vacant Channel 274A at Saint Florian, Alabama, can be changed to comply with the Commission's minimum distance separation requirements with a site restriction of 4.1 km (2.5 miles) west of Arlington. The revised coordinates for Channel 274A at Saint Florian, Alabama, are 34-50-12 NL and 87-37-27 WL.

DATES: Effective March 23, 2006.

FOR FURTHER INFORMATION CONTACT: Deborah Dupont, Media Bureau, (202) 418-2180.

SUPPLEMENTARY INFORMATION: This is a synopsis of the Commission's Report and Order, MB Docket No. 05-140, adopted February 2, 2006, and released February 6, 2006. The full text of this Commission decision is available for inspection and copying during normal business hours in the FCC Information Center, Portals II, 445 12th Street, SW., Room CY-A257, Washington, DC 20554. The complete text of this decision also may be purchased from the Commission's duplicating contractor, Best Copy and Printing, Inc., 445 12th Street, SW., Room CY-B402, Washington, DC, 20554, (800) 378-3160, or via the company's Web site, http://www.bcpiweb.com. The Commission will send a copy of this Report and Order in a report to be sent to Congress and the Government Accountability Office pursuant to the Congressional Review Act, see U.S.C. 801(a)(1)(A).

List of Subjects in 47 CFR Part 73

Radio, Radio broadcasting.

Part 73 of title 47 of the Code of Federal Regulations is amended as follows:

PART 73—RADIO BROADCAST SERVICES

1. The authority citation for part 73 continues to read as follows:

Authority: 47 U.S.C. 154, 303, 334 and 336.

§ 73.202 [Amended]

2. Section 73.202(b), the Table of FM Allotments under Tennessee is amended by adding Arlington, Channel 274C1 and by removing Channel 274C1 at Memphis.

Federal Communications Commission.
John A. Karousos,
Assistant Chief, Audio Division, Media Bureau.

[FR Doc. 06-1521 Filed 2-21-06; 8:45 am]

BILLING CODE 6712-01-P